DEPARTMENT OF COMMERCE

National Oceanic and Atmospheric Administration

Federal Consistency Appeal by Islander East Pipeline Company From an Objection by the Connecticut Department of Environmental Protection

AGENCY: National Oceanic and Atmospheric Administration (NOAA), Department of Commerce (Commerce).

ACTION: Supplemental notice of public hearing.

SUMMARY: This notice provides scheduling information concerning a public hearing to be held by the National Oceanic and Atmospheric Administration in New Haven, Connecticut. The hearing involves an administrative appeal filed with the Department of Commerce by the Islander East Pipeline Company (Consistency Appeal of Islander East Pipeline Company, L.L.C.).

DATES: The hearing is scheduled to begin at 9:30 a.m. on November 5, 2003. Speaker registration begins at 8:30 a.m. on the day of the hearing. Public comments on the appeal must be received by November 20, 2003.

ADDRESSES: The public hearing and speaker registration will be held at the Omni New Haven Hotel, 155 Temple Street, New Haven, Connecticut. Written comments may be submitted at the hearing. All e-mail comments on issues relevant to the Secretary's decision of this appeal may be submitted to IslanderEast.comments@noaa.gov. Apart from the hearing, comments may also be sent by mail to the Office of the General Counsel for Ocean Services, National Oceanic and Atmospheric Administration, U.S. Department of Commerce, 1305 East-West Highway, Silver Spring, MD 20910. Materials from the appeal record are available at the Internet site http://www.ogc.doc.gov/czma.htm and at the Office of the General Counsel for Ocean Services. Also, public filings made by the parties to the appeal are to be available for review at the Connecticut Department of Environmental Protection, 79 Elm Street, Hartford, Connecticut.

FOR FURTHER INFORMATION CONTACT: Branden Blum, Senior Counselor, via email at gcos.inquiries@noaa.gov, or at 301-713-2967, extension 186.

SUPPLEMENTARY INFORMATION: The Islander East Pipeline Company filed an administrative appeal with the Department of Commerce, pursuant to the Coastal Zone Management Act of 1972 (CZMA), as amended, asking that the Secretary of Commerce (Secretary) override the State of Connecticut's (State) objection to Islander East's proposed natural gas pipeline. The pipeline would extend from near North Haven, Connecticut, across the Long Island Sound to a terminus in Suffolk County (Long Island), New York. Connecticut's objection is based on the project's potential effects on the natural resources or land and water uses of Connecticut's coastal zone.

On February 4, 2003, NOAA published a notice in the Federal Register announcing that it would hold a public hearing concerning the Islander East appeal at a location to be determined in the State of Connecticut. See 68 FR 5620. The notice also indicated the hearing was expected to be held in the Spring of 2003. Subsequently, proceedings in the appeal were temporarily halted at the request of one or both parties in order to accommodate settlement negotiations and then to allow the State of Connecticut to reconsider its objection to the pipeline project. On August 19, 2003, a Federal Register notice advised that processing of the appeal had resumed and that details concerning the previously announced public hearing would be forthcoming. See 68 FR 49760. This notice provides scheduling information for the hearing.

The hearing, to be held on November 5, 2003, will begin at 9:30 a.m. at the Omni New Haven Hotel, and continue throughout the day with afternoon and evening sessions. Intermissions are expected near noon and in the late afternoon (approximately 4:30 p.m.). In addition, a temporary recess may be scheduled for periods when all registered speakers have had an opportunity to testify. Typically the evening session is crowded, and it is suggested that, if possible, speakers attend the morning or afternoon sessions. Speakers must register on the day of the hearing, on site, at the hotel. Registration of speakers will begin at 8:30 a.m. Each organization that registers should expect to receive a total of five minutes for its representatives to present oral comments. Individuals from the general public who register will receive approximately three minutes to speak. Speakers will be recognized in the order in which they register (a first-come-first-serve basis), alternating between individuals from the general public and those representing organizations. A specific period is also expected to be designated during the morning and afternoon sessions for remarks by elected officials.

Written comments may be submitted to NOAA at the hearing by any person in attendance. For submissions at the hearing, we request, but do not require, that you provide three copies for inclusion into the administrative record. Apart from the hearing, written comments may be submitted by e-mail to IslanderEast.comments@noaa.gov or forwarded via mail to NOAA's Office of the General Counsel for Ocean Services. Comments must be submitted by November 20, 2003, the close of the public comment period. Comments will be made available to the parties; they are also expected to be posted on the Department of Commerce's CZMA appeals Web site at http://www.ogc.doc.gov/czma.htm.

This hearing is being held to obtain information on issues the Secretary will likely consider in deciding Islander East's appeal. A summary of relevant issues as well as additional background on the appeal appears in a January 24, 2003 Federal Register notice announcing the filing of the appeal (see 68 FR 3513), a copy of which can be found on the Internet at http://www.ogc.doc.gov/czma.htm.

Questions concerning the hearing may be sent via e-mail to gcos.inquiries@noaa.gov or made by telephone to 301 713-2967, extension 186.

Dated: September 26, 2003.
James R. Walpole,
General Counsel.

[FR Doc. 03-24832 Filed 10-2-03; 8:45 am]

BILLING CODE 3510-08-P